NUCLEAR REGULATORY COMMISSION

Notice of Issuance of Final Design Approval and Final Safety Evaluation Report, Supplement 1, for AP1000 Standard Plant Design; Westinghouse Electric Company, LLC

The U.S. Nuclear Regulatory Commission (NRC) has issued a revised final design approval (FDA) to Westinghouse for the AP1000 design under 10 CFR Part 52, Appendix O. This FDA allows the AP1000 design to be referenced in an application for a construction permit or an operating license under 10 CFR Part 50 or in an application for a combined license under 10 CFR Part 52. The FDA was revised to make it coterminous with the design certification rule that was issued on January 27, 2006, (Appendix D to 10 CFR Part 52). This FDA supersedes the FDA dated September 13, 2004.

The U.S. Nuclear Regulatory Commission has also issued Supplement 1 to the final safety evaluation report (FSER) related to the certification of the AP1000 standard plant design. The FSER (NUREG-1793) and Supplement 1 thereto supports issuance of the revised FDA.

A copy of the AP1000 FDA and Supplement 1 to the FSER have been placed in the NRC's Public Document Room for review and copying by interested persons.

Dated at Rockville, Maryland, this 10th day of March 2006.
For the Nuclear Regulatory Commission.
Laura A. Dudes,
Branch Chief, New Reactor Licensing Branch, Division of New Reactor Licensing, Office of Nuclear Reactor Regulation.

[FR Doc. E6-3926 Filed 3-16-06; 8:45 am]

BILLING CODE 7590-01-P